DEPARTMENT OF DEFENSE

Office of the Secretary

[Transmittal Nos. 13-69]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-69 with attached transmittal, policy justification, and Sensitivity of Technology.

Dated: December 13, 2013.
Aaron Siegel,
Alternate OSD Federal Register Liaison Officer, Department of Defense.

BILLING CODE 5001-06-P

BILLING CODE 5001-06-C

Transmittal No. 13-69

Notice of Proposed Issuance of Letter of Offer Pursuant to Section 36(b)(1) of the Arms Export Control Act, as amended

(i) Prospective Purchaser: Austria

(ii) Total Estimated Value:

Major Defense Equipment | $ 72 million
Other | $ 65 million
Total | $ 137 million

(iii) Description and Quantity or Quantities of Articles or Services under Consideration for Purchase:

3 UH-60M Black Hawk helicopters in standard USG configuration with designated unique equipment and Government Furnished Equipment (GFE)

3 Aviation Survivability Equipment (ASE)

7 T700-GE-701D Engines (6 installed and 1 spare)

3 Aviation Mission Planning Systems

1 Transportable Black Hawk Operations Simulator (TBOS)

8 AN/AVS-9 Night Vision Goggles

1 Aviation Ground Power Unit

8 Embedded Global Positioning Systems with Inertial Navigation

Also included are Communication Security equipment including AN/ARC-231, AN/ARC-210, AN/ARC-220 and AN/ARC-201D radios, Identification Friend or Foe (IFF) systems, AN/VRC-92 SINCGARS, aircraft warranty, air worthiness support, facility construction, spare and repair parts, support equipment, communication equipment, publications and technical documentation, personnel training and training equipment, site surveys, tool and test equipment, U.S. Government and contractor technical and logistics support services, and other related element of program, technical and logistics support.

(iv) Military Department: Army (VAR)

(v) Prior Related Cases: None

(vi) Sales Commission Fee, etc., Paid, Offered, or agreed to be paid: None

(vii) Sensitivity of Technology Contained in the Defense Article or Defense Services Proposed to be sold: See Attached Annex

(viii) Date Report Delivered to Congress: 5 Dec 13

* as defined in Section 47(6) of the Arms Export Control Act.

Policy Justification

Austria—UH-60M Black Hawk Helicopters in Total Package Approach

The Government of Austria has requested a possible sale of:

3 UH-60M Black Hawk helicopters in standard USG configuration with designated unique equipment and Government Furnished Equipment (GFE)

3 Aviation Survivability Equipment (ASE)

7 T700-GE-701D Engines (6 installed and 1 spare)

3 Aviation Mission Planning Systems

1 Transportable Black Hawk Operations Simulator (TBOS)

8 AN/AVS-9 Night Vision Goggles

1 Aviation Ground Power Unit

8 Embedded Global Positioning Systems with Inertial Navigation

Also included are Communication Security equipment including AN/ARC-231, AN/ARC-210, AN/ARC-220 and AN/ARC-201D radios, Identification Friend or Foe (IFF) systems, AN/VRC-92 SINCGARS, aircraft warranty, air worthiness support, facility construction, spare and repair parts, support equipment, communication equipment, publications and technical documentation, personnel training and training equipment, site surveys, tool and test equipment, U.S. Government and contractor technical and logistics support services, and other related element of program, technical and logistics support. The estimated cost is $137 million.

This proposed sale will contribute to the foreign policy and national security of the United States by helping to improve the security of a friendly country which has been, and continues to be, an important force for political stability and progress in Europe.

The proposed sale of UH-60 Black Hawk helicopters will improve Austria's capability to conduct domestic search and rescue missions, border surveillance operations, and contribute to international operations. The proposed sale will also contribute to the Austrian military's modernization goals while enhancing interoperability between Austria, the U.S., and other allies. Austria, which has S-70A-42 aircraft in its inventory, will have no difficulty absorbing these additional helicopters and support into its armed forces.

The proposed sale of this equipment and support will not alter the basic military balance in the region.

The principal contractor will be Sikorsky Aircraft Company in Stratford, Connecticut. The engines will be purchased from General Electric Aircraft Company (GEAC) in Lynn, Massachusetts. There are no known offset agreements proposed in connection with this potential sale.

Implementation of this proposed sale will require nine U.S. government or contractor representatives to travel to Austria for a period of up to five years for support.

There will be no adverse impact on the U.S. defense readiness as a result of this proposed sale.

Transmittal No. 13-69

Notice of Proposed Issuance of Letter of Offer Pursuant to Section 36(b)(1) of the Arms Export Control Act

Annex

Item No. vii

(vii) Sensitivity of Technology:

1. The UH-60M aircraft is a medium lift aircraft which includes two T-701D Engines, and the Common Avionics Architecture System (CAAS) cockpit, which provides aircraft system, flight, mission, and communication management systems. The CAAS includes five Multifunction Displays (MFDs), two General Purpose Processor Units (GPPUs), two Control Display Units (CDUs) and two Data Concentrator Units (DCUs). The Navigation System will have Embedded GPS/INS (EGIs), two Digital Advanced Flight Control Systems (DAFCS), one ARN-149 Automatic Direction Finder, one ARN-147 (VOR/ILS marker Beacon System), one ARN-153 TACAN, two air data computers, and one Radar Altimeter system. The communication equipment includes the APX-118A IFF, AN/ARC-231 UHF/VHF-AM/FM and the AN/ARC-201D/E VHF-FM. depending on the finalized configuration, the AN/ARC-210 dual multiband radio and AN/ARC-220 HF radio may also be included on the UH-60M.

a. The AN/APX-118A, Transponder is classified Secret if Mode IV or Mode S fill is installed.

b. The AN/ARC-210 radio is a multi mode radio with satellite communications capabilities.

c. The AN/ARC-201D Single Channel Ground and Airborne Radio Systems (SINCGARS) is a tactical FM airborne radio subsystem that provides secure, anti-jam voice and data communication. The Enhanced Data Modes (EDM) of the radio employs a Reed-Solomon Forward Error Correction (FEC) technique that provides enhanced bit-error-rate performance. That EDM Packet Data Mode supports packet data transfer from the airborne host computer to another airborne platform or the ground-based equivalent SINCGARS system. Performance capabilities, Electronic Countermeasures/Electronic Counter Countermeasures specifications and Engineering Change Orders (ECOs) are classified Secret.

d. A commercial variant of the AN/ARC-201D is available to FMS customers.

e. The AN/ARC-231 requires an exportable variant of the AN/ARC-231 radio, the MXF-4027.

f. The Embedded GPS/INS (EGI) unit CN-1689-(H-764GU) contains sensitive GPS technology.

2. If a technologically advanced adversary were to obtain knowledge of the specific hardware and software elements, the information could be used to develop countermeasures or equivalent systems which might reduce weapon system effectiveness or be used in the development of a system with similar or advanced capabilities.

3. The benefits to be derived from this sale, as outlined in the Policy Justification outweigh the potential damage that could result if the sensitive technology were revealed to unauthorized persons. The Government of Austria is expected to afford all system related information and technologies the same degree of protection given to it by the United States.

[FR Doc. 2013-30120 Filed 12-18-13; 8:45 am]

BILLING CODE 5001-06-P